DEPARTMENT OF THE TREASURY

United States Mint

Notification of Change in Return Policy for All Numismatic Products

SUMMARY: The United States Mint is changing its return policy for all numismatic products.

Effective February 10, 2009, the United States Mint will change its 30-day return policy. As a result of implementing a new pricing methodology for numismatic coins containing gold and platinum, the United States Mint is implementing a new seven-day return policy for all numismatic gold and platinum precious metal products. Further, to ensure consistency in our return policies across all numismatic product categories, the United States Mint will adopt this same seven-day return policy for all numismatic products. (This policy does not apply to $1 coin direct shipments, which are not considered numismatic products.) Under this new policy, United States Mint customers will have the opportunity to return products within seven calendar days from the date they receive their orders.

FOR FURTHER INFORMATION CONTACT: B.B. Craig, Associate Director for Sales and Marketing; United States Mint; 801 Ninth Street, NW., Washington, DC 20220; or call 202-354-7500.

Authority: 31 U.S.C. 5111.

Dated: February 9, 2009.
Edmund C. Moy,
Director, United States Mint.

[FR Doc. E9-3084 Filed 2-12-09; 8:45 am]

BILLING CODE 4810-37-P